DEPARTMENT OF COMMERCE

National Oceanic and Atmospheric Administration

50 CFR Part 218

[Docket No. 0906101030-91038-01]

RIN 0648-AX88

Taking and Importing Marine Mammals; Navy Training Activities Conducted within the Northwest Training Range Complex

AGENCY: National Marine Fisheries Service (NMFS), National Oceanic and Atmospheric Administration (NOAA), Commerce.

ACTION: Notice; proposed rule; extension of comment period.

SUMMARY: On July 13, 2009, the NMFS published its proposed regulations to govern the take marine mammals incidental to training activities conducted within the U.S. Navy's Northwest Training Range Complex (NWTRC) for the period of February 2010 through February 2015. The Federal Register notice indicated written comments were due by August 12, 2009, allowing 30 days for public input. In response to a request from a public interest organization, NMFS is extending the public comment period by 7 days, to August 19, 2009.

DATES: The public comment period for this action has been extended from August 12 to August 19, 2009. Written comments and information must be received no later than August 19, 2009.

ADDRESSES: You may submit comments, identified by 0648-AX88, by any one of the following methods:

• Electronic Submissions: Submit all electronic public comments via the Federal eRulemaking Portal http://www.regulations.gov

• Hand delivery or mailing of paper, disk, or CD-ROM comments should be addressed to Michael Payne, Chief, Permits, Conservation and Education Division, Office of Protected Resources, National Marine Fisheries Service, 1315 East-West Highway, Silver Spring, MD 20910-3225.

Instructions: All comments received are a part of the public record and will generally be posted to http://www.regulations.gov without change. All Personal Identifying Information (e.g., name, address, etc.) voluntarily submitted by the commenter may be publicly accessible. Do not submit Confidential Business Information or otherwise sensitive or protected information.

NMFS will accept anonymous comments (enter N/A in the required fields if you wish to remain anonymous). Attachments to electronic comments will be accepted in Microsoft Word, Excel, WordPerfect, or Adobe PDF file formats only.

FOR FURTHER INFORMATION CONTACT: Jolie Harrison, Office of Protected Resources, NMFS, 301-713-2289.

SUPPLEMENTARY INFORMATION: On August 3, 2009, NMFS received a request from Friends of the Earth, a non-profit environmental advocacy organization, requesting a 30-day extension of the comment period on the NWTRC proposed rule. NMFS has considered this request along with the critical military readiness training needs of the Navy and the need for timely MMPA compliance and will provide an additional seven days for public comment. Further postponement of the MMPA authorization process and the establishment of the necessary protective measures would risk a delay in the Navy's critical military readiness training.

Moreover, the public has had numerous opportunities to comment on the Navy's proposed action and potential environmental consequences through the National Environmental Policy Act process [Northwest Training Range Complex Draft Environmental Impact Statement/Overseas Environmental Impact Statement, December 2008 (DEIS)]. The activities and potential environmental effects described in NMFS' NWTRC proposed rule are similar to, if not identical to, those considered in the Navy's DEIS. In particular, the public comment period for the DEIS was extended twice, providing a total of 105 days for public review, and several public meetings were added.

Background information concerning the proposed regulations can be found in the July 13, 2009 Federal Register notice (74 FR 33828), and is not repeated here. For additional information regarding the proposed regulations and the Navy's associated Environmental Impact Statement, please visit NMFS' website at: http://www.nmfs.noaa.gov/pr/permits/incidental.htm#applications

Dated: August 6, 2009.
P. Michael Payne,
Chief, Division of Permits, Conservation, and Education, Office of Protected Resources, National Marine Fisheries Service.

[FR Doc. E9-19334 Filed 8-11-09; 8:45 am]

BILLING CODE 3510-22-S